DEPARTMENT OF THE INTERIOR

Bureau of Land Management

[LLAK-963000-L1410000-KB0000; AA-40482]

Order Providing for Opening of Lands Subject to Section 24 of the Federal Power Act; Alaska

AGENCY: Bureau of Land Management, Interior.

ACTION: Notice.

SUMMARY: This notice opens lands for selection by the State of Alaska (State), subject to Section 24 of the Federal Power Act (FPA). The lands include approximately 1,355 acres of National Forest System lands withdrawn for Power Site Classification No. 221 by the Secretarial Order dated May 14, 1929, and approximately 948 acres of public land withdrawn for the Federal Energy Regulatory Commission (FERC) Power Project No. 13234. This action will permit conveyance of the land to the State, if such land is otherwise available, and retain the power rights to the United States. Any land described herein that is not conveyed to the State will remain subject to the terms and conditions of the Tongass National Forest reservation and any other withdrawal of record.

DATES: Effective Date: November 7, 2011.

FOR FURTHER INFORMATION CONTACT: Robert L. Lloyd, Bureau of Land Management, Alaska State Office, 222 West Seventh Avenue, #13, Anchorage, Alaska 99513; (907) 271-4682. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The State has requested the land withdrawn for Power Site Classification No. 221, and FERC Power Project No. 13234, to be opened to State selection subject to Section 24 of the FPA. Upon publication of this notice, the land will be made available for conveyance to the State pursuant to Section 6(a) of the Alaska Statehood Act of July 7, 1958, 48 U.S.C. note prec. 21 and Section 906(e) of the Alaska National Interest Lands Conservation Act, 43 U.S.C. 1635(e).

By virtue of the authority vested in the Secretary of the Interior by Section 24 of the FPA of June 10, 1920, as amended, 16 U.S.C. 818, and pursuant to the determination by the FERC in DVAK-130-001, and according to the regulations under 43 CFR 2091.5-4(b), notice is hereby given that:

1. Subject to valid existing rights at 10 a.m. Alaska Time on November 7, 2011, the following described National Forest System land is hereby opened for selection by the State under the Alaska Statehood Act of July 7, 1958, 48 U.S.C. note prec. 21, subject to the provisions of Section 24 of the FPA as specified by the FERC in determination DVAK-130-001, to permit conveyance to the State, subject to valid existing rights, the provisions of existing withdrawals, and the requirements of applicable law:

Copper River Meridian

All land below an altitude of 1,000 feet above sea level adjacent to Takatz Lake on Baranof Island and the stream which is its outlet into Chatham Strait, and included in the State's selection application AA-40277 located within:

T. 54 S., R. 66 E., partially surveyed,

Secs. 35 and 36.

T. 55 S., R. 66 E., partially surveyed,

secs. 2 to 5, inclusive, and sec. 10.

The area described contains approximately 1,355 acres.

2. The State's selection applications made under Section 6(a) of the Alaska Statehood Act of July 7, 1958, 48 U.S.C. note prec. 21, and under Section 906(e) of the Alaska National Interest Lands Conservation Act, 43 U.S.C. 1635(e), become effective without further action by the State on November 7, 2011, if such land is otherwise available. Land not conveyed to the State will remain subject to the terms and conditions of the Tongass National Forest reservation, Section 24 of the FPA, and any other withdrawal of record.

Authority: 43 CFR 2091.5-4(b).

Julia Dougan,
Acting Alaska State Director.

[FR Doc. 2011-28710 Filed 11-4-11; 8:45 am]

BILLING CODE 4310-JA-P